SECURITIES AND EXCHANGE COMMISSION

Issuer Delisting; Notice of Application of the Indonesia Fund, Inc. To Withdraw Its Common Stock, $.001 Par Value, From Listing and Registration on the Boston Stock Exchange, Inc., File No. 1-10453

September 17, 2003.

The Indonesia Fund, Inc., a Maryland corporation (“Issuer”), has filed an application with the Securities and Exchange Commission (“Commission”), pursuant to section 12(d) of the Securities Exchange Act of 1934 (“Act”) ¹ and Rule 12d2-2(d) thereunder,² to withdraw its common stock, $.001 par value (“Security”), from listing and registration on the Boston Stock Exchange, Inc. (“BSE” or “Exchange”).

¹ 15 U.S.C. 78l(d).

² 17 CFR 240.12d2-2(d).

On August 5, 2003, the Board of Directors of the Issuer approved a resolution to withdraw the Security from listing and registration on the BSE. The Issuer states that the following reasons factored into the Board's decision to withdraw the Security: the Issuer intends to list the Security on the American Stock Exchange (“Amex”); if listed on the Amex, greater liquidity may foster higher average trading volumes and greater accessibility, and shareholders will benefit from the additional liquidity. In addition, the Issuer believes that its reputation may be enhanced by listing its Security on the Amex.

The Issuer states in its application that it has complied with BSE procedures for delisting by complying with all applicable laws in effect in the State of Maryland, the state in which it is incorporated. The Issuer's application relates solely to withdrawal of the Security from listing on the BSE and from registration under section 12(b) of the Act ³ and shall not affect its obligation to be registered under section 12(g) of the Act.⁴

³ 15 U.S.C. 781(b).

⁴ 15 U.S.C. 781(g).

Any interested person may, on or before October 10, 2003, submit by letter to the Secretary of the Securities and Exchange Commission, 450 Fifth Street, NW., Washington, DC 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-24224 Filed 9-24-03; 8:45 am]

BILLING CODE 8010-01-P